DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communication (FISC).

DATES: The meeting will be held January 13-15, 2004, starting at 8:30 a.m.

ADDRESSES: The meeting will be held at Airlines Pilot Association (ALPA) Office on 1625 Massachusetts Ave., Washington, DC 20036.

FOR FURTHER INFORMATION CONTACT: RTCA Secretariat, 1828 L Street, NW., Washington, DC 20036; telephone (202) 833-9339; fax (202) 833-9434; Web site http://www.rtca.org.

SUPPLEMENTARY INFORMATION: Pursuant to section 10(a)(2) of the Federal Advisory Committee Act (Pub. L. 92-463, 5 U.S.C. Appendix 2), notice is hereby given for a Special Committee 195 meeting. The agenda will include:

• January 13:

• Opening Plenary Session (Welcome and Introductory Remarks, Approval of Agenda, Approval of Minutes, Review of Action Items).

• Review of ATA final review and comment (FRAC) comments on draft DO-267A.

• Review Responses to Avionics Harmonization Working Group (AVHWG) Member Comments on draft DO-267A.

• AVHWG Coordination.

• January 14:

• Approval of Flight Information Services (FIS) Product Registry.

• Guidance for Type Design Approval of Future FIS Products.

• Consideration of the Requirement Level for Color in DO-267A.

• Approve Final Draft DO-267A.

• January 15:

• Closing Plenary Session (Review Action Items, Discussion of Future Workplan, Other Business, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 12, 2003.
Robert Zoldos,
FAA System Engineer, RTCA Advisory Committee.

[FR Doc. 04-497 Filed 1-9-04; 8:45 am]

BILLING CODE 4910-13-M